DEPARTMENT OF HEALTH AND HUMAN SERVICES

Centers for Medicare & Medicaid Services

42 CFR Part 480

Acquisition, Protection, and Disclosure of Quality Improvement Organization Information

CFR Correction

In Title 42 of the Code of Federal Regulations, Parts 480 to 481, revised as of October 1, 2014, on page 614, in § 480.132, remove paragraphs (b)(1)(i) and (ii).

[FR Doc. 2015-17128 Filed 7-13-15; 8:45 am]

BILLING CODE 1505-01-P